DEPARTMENT OF DEFENSE

Department of the Navy

[USN-2008-0016]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 26, 2008.
L.M. Bynum,
Alternate OSD Federal Register Liaison Officer, Department of Defense.

N05861-1

System name:

Private Relief Legislation (April 24, 1997, 62 FR 19994).

Changes:

* * * * *

Authority for maintenance of the system:

Delete entry and replace with ``10 U.S.C. 5013, Secretary of the Navy.”

* * * * *

Storage:

Delete entry and replace with “Paper and automated records/databases.”

* * * * *

Safeguards:

Delete entry and replace with “Password controlled system, file, and element access based on predefined need-to-know. Physical access to terminals, terminal rooms, buildings and activities' grounds are controlled by locked terminals and rooms, guards, personnel screening and visitor registers.”

* * * * *

Notification procedure:

In para 2, delete entry and replace with “Individual should provide a signed request with full name, term and session of Congress when bill introduced, bill number, sponsor of bill (if available); driver's license or similar substitute for identification purposes.”

Record access procedures:

In para 2, delete entry and replace with “Individual should provide a signed request with full name, term and session of Congress when bill introduced, bill number, sponsor of bill (if available); driver's license or similar substitute for identification purposes.”

* * * * *

N0586-1

System name:

Private Relief Legislation.

System location:

Office of Legislative Affairs, Department of the Navy, 2000 Navy Pentagon, Washington, DC 20350-2000.

Categories of individuals covered by the system:

Individuals concerning whom private legislation is introduced in the U.S. Congress.

Categories of records in the system:

Letters to Congressional Committees, expressing the views of the department concerning the legislation and records necessary to prepare the letters.

Authority for maintenance of the system:

10 U.S.C. 5013, Secretary of the Navy.

Purpose(s):

To prepare the Department of the Navy's position to Congress concerning proposed private relief legislation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To members of Congress to provide the Navy position on proposed legislation.

To officials and employees of the Office of Management and Budget to clear the Navy position on proposed legislation.

To other executive agencies who would have an interest in the Navy's position on the proposed legislation and/or the Navy's position would impact on that agency.

The ‘Blanket Routine Uses’ that appear at the beginning of the Navy's compilation of systems of records notices apply to this system.

Policies and practices for storing, retrieving, accessing, retaining, and disposing of records in the system:

Storage:

Paper and automated records/databases.

Retrievability:

Name.

Safeguards:

Password controlled system, file, and element access based on predefined need-to-know. Physical access to terminals, terminal rooms, buildings and activities' grounds are controlled by locked terminals and rooms, guards, personnel screening and visitor registers.

Retention and disposal:

Permanent. Retained on-site for at least 4 years or as long as the legislation is active. After 4 years, records are transferred to the Washington Federal Records Center Suitland, GSA Accession Section, Washington, DC 20409.

System manager(s) and address:

Chief of Legislative Affairs, Department of the Navy, 2000 Navy Pentagon, Washington, DC 20350-2000.

Notification procedure:

Individuals seeking to determine whether information about themselves is contained in this system should address written inquiries to the Chief of Legislative Affairs, Department of the Navy, 2000 Navy Pentagon, Washington, DC 20350-2000.

Individual should provide a signed request with full name, term and session of Congress when bill introduced, bill number, sponsor of bill (if available); driver's license or similar substitute for identification purposes.

Record access procedures:

Individuals seeking access to information about themselves contained in this system should address written inquiries to the Chief of Legislative Affairs, Department of the Navy, 2000 Navy Pentagon, Washington, DC 20350-2000.

Individual should provide a signed request with full name, term and session of Congress when bill introduced, bill number, sponsor of bill (if available); driver's license or similar substitute for identification purposes.

Contesting record procedures:

The Navy's rules for accessing records, and for contesting contents and appealing initial agency determinations are published in Secretary of the Navy Instruction 5211.5; 32 CFR part 701; or may be obtained from the system manager.

Record source categories:

Member of Congress; individual about whom file is maintained and individuals from whom he solicits information; other Navy, Marine Corps, and DOD components; OMB; and other interested executive agencies.

Exemptions claimed for the system:

None.

[FR Doc. E8-6633 Filed 3-31-08; 8:45 am]

BILLING CODE 5001-06-P